DEPARTMENT OF LABOR

Office of Labor-Management Standards

29 CFR Parts 405 and 406

RIN 1215-AB79

RIN 1245-AA03

Labor-Management Reporting and Disclosure Act; Interpretation of the “Advice” Exemption; Correction

AGENCY: Office of Labor-Management Standards, Department of Labor.

ACTION: Notice of proposed rulemaking; correction.

SUMMARY: This document corrects the preamble and the regulatory text of the notice of proposed rulemaking (NPRM) that was published in the Federal Register on June 21, 2011 (76 FR 36178), regarding the interpretation of Section 203 of the Labor-Management Reporting and Disclosure Act (LMRDA), 29 U.S.C. 433, and corresponding revisions to the Form LM-10 Employer Report and to the Form LM-20 Agreement and Activities Report. This correction clarifies that the NPRM intended to propose a technical revision to 29 CFR 406.2, which was inadvertently omitted from the preamble and the proposed revised regulatory text of the NPRM.

FOR FURTHER INFORMATION CONTACT: Andrew R. Davis, Chief of the Division of Interpretations and Standards, Office of Labor-Management Standards, U.S. Department of Labor, 200 Constitution Avenue, NW., Room N-5609, Washington, DC 20210, olms-public@dol.gov, (202) 693-0123 (this is not a toll-free number), (800) 877-8339 (TTY/TDD).

SUPPLEMENTARY INFORMATION: In a proposed rule published on June 21, 2011, in the Federal Register, 76 FR 36178, by the Office of Labor-Management Standards, Department of Labor, a proposed technical revision to 29 CFR 406.2 and a reference in the preamble setting out the revision were inadvertently omitted. Accordingly, the following corrections are made to this proposed rule.

Corrections to the Notice of Proposed Rulemaking

1. In proposed rule, 76 FR 36178, beginning on page 36193 in the issue of June 21, 2011, make the following correction in the SUPPLEMENTARY INFORMATION Section. In the first column, the first paragraph of Section VI, correct the third sentence to read as follows:

The Department is also proposing revisions to sections 405.5, 405.7, and 406.2 of title 29 of the Code of Federal Regulations to update cross-references in those sections to the instructions.

2. In proposed rule, 76 FR 36178, beginning on page 36206 in the issue of June 21, 2011, make the following addition to the proposed revisions to 29 CFR 406, which appears in the third column, by adding the following:

5. Section 406.2 is amended by removing the phrase “other than that required by Item C, 10, (c) of the Form,” and adding in its place “other than that required by Item 11.c. of the Form.”

Dated: June 21, 2011.
John Lund,
Director, Office of Labor-Management Standards.

[FR Doc. 2011-15960 Filed 6-24-11; 8:45 am]

BILLING CODE 4510-CP-P